DEPARTMENT OF ENERGY

Federal Energy Regulatory Commission

[Project No. 9650-036]

Factory Falls, Inc.; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 9650-036.

c. Date filed: June 28, 2024.

d. Applicant: Factory Falls, Inc. (Factory Falls).

e. Name of Project: Gilman Dam Hydroelectric Project.

f. Location: On the Black River, Windsor County, Vermont.

g. Filed Pursuant to: Federal Power Act 16 U.S.C. 791(a)-825(r).

h. Applicant Contact: William Handly, Factory Falls, Inc., 286 South Street, Springfield, Vermont 05156; Phone at (802) 885-5360 or email at bhandly@vermontel.net.

i. FERC Contact: Erin Kimsey at (202) 502-8621, or erin.kimsey@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 27, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Gilman Dam Hydroelectric Project (P-9650-036).

m. The application is not ready for environmental analysis at this time.

n. The existing Gilman Dam Project consists of the following: (1) a 190-foot-long, 7-foot-high concrete gravity dam (Gilman Dam) that includes a spillway with a crest elevation of 421 feet mean sea level (msl); (2) an impoundment with a surface area of 1.0 acre at an elevation of 421 feet msl; (3) an intake structure equipped with a headgate and trashrack with 1.5-inch clear bar spacing; (4) a 175-foot-long, 6-foot-diameter penstock; (5) a 40-foot-long, 50-foot-wide, brick and concrete powerhouse with a Vertical Francis turbine-generator unit with an authorized installed capacity of 125 kilowatts; (6) a 50-foot-long tailrace; (7) a 0.6 kilovolt (kV) generator lead; (8) a 0.6/4.16 kV step-up transformer; (9) a 4.16 kV transmission line; (10) a downstream fish passage facility for Atlantic Salmon; and (11) appurtenant facilities.

The current license requires Factory Falls to operate the project in instantaneous run-of-river mode, so that flow in the Black River, as measured immediately downstream from the project tailrace, approximates the instantaneous sum of the inflow to the project impoundment. The current license also requires Factory Falls to release a minimum flow of 9 cubic feet per second (cfs) over the spillway or through the fish passage facility during passage season, and 40 cfs in an uncontrolled bypass channel on the west side of the dam, and to operate the downstream fish passage from April 1 through June 15. The project has an average annual generation of 550 megawatt-hours.

Factory Falls propose to continue operating the project in a run-of-river mode. Factory Falls also propose to increase the minimum flow over the spillway from 9 cfs to 10 cfs by maintaining the impoundment 1 inch above the spillway crest.

o. Copies of the application may be viewed on the Commission's website at http://www.ferc.gov using the “eLibrary” link. Enter the docket number excluding the last three digits in the docket number field to access the document (P-9650). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Issue Deficiency Letter (if necessary) | August 2024.
Request Additional Information | August 2024.
Issue Acceptance Letter | January 2025.
Issue Scoping Document 1 for comments | January 2025.
Request Additional Information (if necessary) | March 2025.
Issue Scoping Document 2 (if necessary) | March 2025.

Final amendments to the application must be filed with the Commission no later than 30 days from the issuance date of the notice of ready for environmental analysis.

Dated: July 11, 2024.
Debbie-Anne A. Reese,
Acting Secretary.

[FR Doc. 2024-15736 Filed 7-16-24; 8:45 am]

BILLING CODE 6717-01-P